DEPARTMENT OF TRANSPORTATION

Federal Aviation Administration

14 CFR Part 73

[Docket No. FAA-2023-0243; Airspace Docket No. 23-ASO-31]

RIN 2120-AA66

Renaming of Restricted Areas R-5311A, R-5311B, and R-5311C; Fort Bragg, NC

AGENCY: Federal Aviation Administration (FAA), DOT.

ACTION: Final rule.

SUMMARY: This action is an administrative change to rename restricted areas R-5311A, R-5311B, and R-5311C, Fort Bragg, NC, and to update the using agency description to reflect the change. Additionally, geographic coordinate technical amendments for two boundary points listed in the restricted areas are made to accurately align the existing boundary with the Little River referenced in the descriptions. This action partially implements recommendations of the Commission on the Naming of Items (Naming Commission) of the Department of Defense (DoD) as established by section 370 of the Fiscal Year (FY) 2021 National Defense Authorization Act (NDAA).

DATES: Effective date 0901 UTC, January 25, 2024.

ADDRESSES: A copy of this final rule, and all background material may be viewed online at www.regulations.gov using the FAA Docket number. Electronic retrieval help and guidelines are available on the website. It is available 24 hours each day, 365 days each year.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the information in the airspace descriptions of restricted areas R-5311A, R-5311B, and R-5311C.

Background

The FY 2021 NDAA directed the DoD to establish a commission relating to assigning, modifying, or removing of names, symbols, displays, monuments, and paraphernalia to assets of the DoD that commemorate the Confederate States of America or any person who served voluntarily with the Confederate States of America.¹ In January 2023, the Secretary of Defense directed all DoD organizations to begin full implementation of the Naming Commission's recommendations. As approved by the Secretary of Defense, the name “Fort Bragg, NC” is changed to “Fort Liberty, NC.” Consequently, this rulemaking action implements the requisite changes to part 73 by updating the airspace descriptions of restricted areas R-5311A, R-5311B, and R-5311C to reflect the new name.

¹ Public Law 116-283, 134 Stat. 3388, Jan. 1, 2021.

Upon review of the restricted areas, the FAA identified two boundary points used in the boundary descriptions that required technical amendment to accurately align with the Little River used in the description. This action includes the geographic coordinate technical amendments to align the northern boundary with the Little River, as originally intended.

The Rule

This action amends 14 CFR part 73 by updating the airspace titles and using agency descriptions for restricted areas R-5311A, R-5311B, and R-5311C by removing the name “Fort Bragg, NC” and replacing it with “Fort Liberty, NC.”

The FAA also makes a technical amendment to two geographic points in the description of restricted areas R-5311A, R-5311B, and R-5311C. These minor amendments to the geographic coordinates more accurately describe the intersection of each restricted area where it meets the Little River in North Carolina. Updating these coordinates does not change the boundary of the restricted areas, but rather increases the accuracy of the waterway due to digital precision survey. The point “lat. 35°10′47″ N, long. 79°01′55″ W” is changed to “lat. 35°10′40″ N, long. 79°01′56″ W”; and the point “lat. 35°09′41″ N, long. 79°20′09″ W” is changed to “lat. 35°09′43″ N, long. 79°20′07″ W”.

This action consists of administrative name changes and minor technical amendments only and does not affect the boundaries, altitudes, time of designation, or activities conducted in the restricted areas. Therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of making administrative name changes to the geographic location and using agency information of restricted areas R-5311A, R-5311B, and R-5311C, and minor geographic coordinate technical amendments, qualifies for categorical exclusion under the National Environmental Policy Act (42 U.S.C. 4321 et seq.) and its implementing regulations at 40 CFR part 1500, and in accordance with FAA Order 1050.1F, Environmental Impacts: Policies and Procedures, paragraph 5-6.5d, which categorically excludes from further environmental impact review rulemaking actions where modification of the technical description of special use airspace (SUA) that does not alter the dimensions, altitudes, or times of designation of the airspace (such as changes in designation of the controlling or using agency, or correction of typographical errors). In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 73

Airspace, Prohibited areas, Restricted areas.

The Amendment

In consideration of the foregoing, the Federal Aviation Administration amends 14 CFR part 73 as follows:

PART 73—Special Use Airspace

1. The authority citation for 14 CFR part 73 continues to read as follows:

Authority: 49 U.S.C. 106(f), 106(g), 40103, 40113, 40120; E.O. 10854, 24 FR 9565, 3 CFR, 1959-1963 Comp., p. 389.

§ 73.53 North Carolina [Amended]

2. Section 73.53 is amended as follows:

* * * * *

R-5311A Fort Bragg, NC [Removed]

R-5311B Fort Bragg, NC [Removed]

R-5311C Fort Bragg, NC [Removed]

R-5311A Fort Liberty, NC [New]

Boundaries. Beginning at lat. 35°10′40″ N, long. 79°01′56″ W; to lat. 35°08′48″ N, long. 79°01′59″ W; to lat. 35°07′01″ N, long. 79°02′29″ W; to lat. 35°05′36″ N, long. 79°01′49″ W; to lat. 35°02′56″ N, long. 79°05′39″ W; to lat. 35°02′46″ N, long. 79°20′09″ W; to lat. 35°07′06″ N, long. 79°22′49″ W; to lat. 35°09′43″ N, long. 79°20′07″ W; thence along Little River to the point of beginning.

Designated altitudes. Surface to but not including 7,000 feet MSL.

Time of designation. Continuous.

Controlling agency. FAA, Washington ARTCC.

Using agency. U.S. Army, Commanding General, Fort Liberty, NC.

R-5311B Fort Liberty, NC [New]

Boundaries. Beginning at lat. 35°10′40″ N, long. 79°01′56″ W; to lat. 35°08′48″ N, long. 79°01′59″ W; to lat. 35°07′01″ N, long. 79°02′29″ W; to lat. 35°05′36″ N, long. 79°01′49″ W; to lat. 35°02′56″ N, long. 79°05′39″ W; to lat. 35°02′46″ N, long. 79°20′09″ W; to lat. 35°07′06″ N, long. 79°22′49″ W; to lat. 35°09′43″ N, long. 79°20′07″ W; thence along Little River to the point of beginning.

Designated altitudes. From 7,000 feet MSL to but not including 12,000 feet MSL.

Time of designation. Continuous.

Controlling agency. FAA, Washington ARTCC.

Using agency. U.S. Army, Commanding General, Fort Liberty, NC.

R-5311C Fort Liberty, NC [New]

Boundaries. Beginning at lat. 35°10′40″ N, long. 79°01′56″ W; to lat. 35°08′48″ N, long. 79°01′59″ W; to lat. 35°07′01″ N, long. 79°02′29″ W; to lat. 35°05′36″ N, long. 79°01′49″ W; to lat. 35°02′56″ N, long. 79°05′39″ W; to lat. 35°02′46″ N, long. 79°20′09″ W; to lat. 35°07′06″ N, long. 79°22′49″ W; to lat. 35°09′43″ N, long. 79°20′07″ W; thence along Little River to the point of beginning.

Designated altitudes. From 12,000 feet MSL to but not including FL 290.

Time of designation. Continuous.

Controlling agency. FAA Washington ARTCC.

Using agency. U.S. Army, Commanding General, Fort Liberty, NC.

* * * * *

Issued in Washington, DC, on November 20, 2023.
Karen L. Chiodini,
Acting Manager, Rules and Regulations Group.

[FR Doc. 2023-26003 Filed 11-27-23; 8:45 am]

BILLING CODE 4910-13-P